DEPARTMENT OF STATE

[Public Notice 5969]

Shipping Coordinating Committee; Notice of Meeting

The Subcommittee on Fire Protection of the Shipping Coordinating Committee (SHC) will conduct an open meeting at 10 a.m. on Tuesday, December 11, 2007 in the Radio Technical Commission for Maritime Services (RTCM) Headquarters Building, 1800 N. Kent Street, Suite 1060, Arlington, VA 22209. The primary purpose of the meeting is to prepare for the 52nd Session of the International Maritime Organization (IMO) Subcommittee on Fire Protection to be held at Central Hall Westminster in London, UK from January 14-18, 2008.

Discussion will focus on papers received and draft U.S. positions regarding:

—Performance testing and approval standards for fire safety systems;

—Comprehensive review of the Fire Test Procedures Code;

—Review of fire safety of external areas on passenger ships;

—Measures to prevent fires in engine-rooms and cargo pump-rooms;

—Fire resistance of ventilation ducts;

—Review of the Code of Safety for Special Purpose Ships (SPS Code);

—Application of requirements for requirements for dangerous goods in the International Convention for the Safety of Life at Sea (SOLAS) and the High-Speed Craft Code 2000 (2000 HSC Code);

—Unified interpretation on the number/ arrangement of portable extinguishers;

—Development of provisions for gas fueled ships;

—Consideration of International Association of Classification Societies (IACS) unified interpretations;

—Fixed hydrocarbon gas detection systems on double-hull tankers;

—Clarification of SOLAS chapter II-2 requirements regarding interrelationship between control station and safety center; and

—Analysis of fire casualty records.

Members of the public are invited to attend this meeting up to the seating capacity of the room. Interested persons may seek further information by writing: Chief, Lifesaving and Fire Safety Division, Commandant (CG-5214), U.S. Coast Guard Headquarters, Room 1308, 2100 Second Street, SW., Washington, DC 20593-0001, by calling: Mr. R. Eberly at (202) 372-1393, or by e-mail at Randall.Eberly@uscg.mil.

Dated: November 20, 2007.
Mark W. Skolnicki,
Executive Secretary, Shipping Coordinating Committee, Department of State.

[FR Doc. E7-23166 Filed 11-28-07; 8:45 am]

BILLING CODE 4710-09-P